DEPARTMENT OF DEFENSE

Office of the Secretary

Continuous Open Enrollment Demonstration for the Designated Provider Program

AGENCY: Health Affairs, Department of Defense.

ACTION: Notice of demonstration project.

SUMMARY: This notice is to advise interested parties of a demonstration project which will enroll military retirees and their family members (to include Medicare-eligible beneficiaries) in the Uniformed Services Family Health Plan on a continuous basis. The continuous open enrollment demonstration project will evaluate the benefits and costs of the program. Continuous open enrollment for retirees and their family members in the Designated Provider program will result in enrollment requirements consistent with the enrollment requirements for the TRICARE Prime option under the TRICARE program. In this project, DoD will allow eligible retirees and their family members to elect to enroll in the Uniformed Services Family Health Plan at any time during the demonstration period in exchange for their agreement to receive comprehensive health care services from the Designated Provider. Funding for the demonstration for care provided will come from existing DoD appropriations. This demonstration will be conducted at three of the seven Designated Provider sites. DoD will conduct an analysis of the benefits and costs of the program using the enrolled populations of the other four Designated Providers as the control group. The demonstration is scheduled to end September 30, 2001.

DATES: May 4, 2000.

FOR FURTHER INFORMATION CONTACT: Earl Hanson, TRICARE Management Activity (703) 681-1757.

SUPPLEMENTARY INFORMATION:

A. Background

Health care for retirees and their family members, to include Medicare-eligible military retirees and family members, is now available under the Designated Provider program. When DoD transitioned the Uniformed Services Treatment Facilities to the Designated Provider program providing the TRICARE Prime benefit in 1998, the Department and the Designated Providers agreed by contract to limit enrollment of retirees and their family members to once per year. In accordance with the National Defense Authorization Act for Fiscal Year 2000, Section 707, the Department of Defense and the Designated Providers randomly selected three sites to actively participate in a continuous open enrollment demonstration that would allow retiree and retiree family members to enroll in the Uniformed Services Family Health Plan without regard to an annual open enrollment season. The remaining four Designated Providers will be control sites. The selected sites will comply with all provisions for their existing contracts and through a modification to the contracts, allow retirees and their family members to enroll at any time during the demonstration period. These enrollees will comply with existing managed care program policies and requirements for the Uniformed Services Family Health Plan.

C. Description of the Continuous Open Enrollment Demonstration

(1) Location of Project: Continuous open enrollment will be conducted in the geographical service area of the Sisters of Charity Health Care System located on Staten Island, New York; the Brighton Marine Health Center located in Boston, Massachusetts; and the Pacific Medical Center located in Seattle, Washington. The control group is a geographic service area operated by Martin's Point Health Care located in Portland, Maine; Johns Hopkins Medical Services Corporation located in Baltimore, Maryland; CHRISTUS Health located in Houston, Texas; and Fairview Health System located in Cleveland, Ohio. The geographical service area is identified by zip codes in and around the Designated Providers' corporate centers.

(2) Continuous Open Enrollment Schedule: Health care delivery is scheduled to begin on February 1, 2000, for the Sisters of Charity Health Care System and the Brighton Marine Health Center. Pacific Medical Center will begin providing health care services on March 1, 2000. Prior to the beginning of health care delivery under this demonstration, the participating Designated Providers will issue public announcements providing information about the program and the enrollment process. The public announcements will indicate that an application acceptance period will begin in January 2000. The demonstration will continue until September 30, 2000.

(3) Eligible population: To be eligible to enroll in this demonstration a military retiree or their family member must, (1) be eligible for care from DoD, (2) reside within geographic service area of participating Designated Providers, and (3) be solely reliant for health care services from the Military Health System and/or Title XVIII of the Social Security Act.

(4) Enrollment capacity: Under this demonstration there is no limitation on the number of eligible beneficiaries that may enroll in the Designated Providers' Uniformed Services Family Health Plan. Enrollment outside the demonstration is limited to 110 percent of enrollment as of the first day of the previous fiscal year.

(5) Enrollment: Enrollment applications will be accepted by mail or in person at an address designated by the participating Designated Providers. The enrollment fee is currently $230 for single enrollee and maximum of $460 for a family. It is the Department's policy to encourage enrollment in Medicare Part B. Therefore, enrollment fees for Medicare-eligible enrollees that maintain their Medicare Part B monthly premiums are waived under the Uniformed Services Family Health Plan.

Enrollment under the demonstration is for a twelve-month period, which is automatically renewed annually. Beneficiaries may leave the program at the end of their twelve-month period by affirmatively requesting disenrollment approximately 60 calendar days prior to automatic renewal. Enrollees discontinuing their enrollment prior to any twelve-month period are locked out of further enrollment in DoD's TRICARE program for a period of twelve months from the effective date of their disenrollment. Portability, transfers, and split family enrollments exist between TRICARE regions and contractors, although portability and transfers for Medicare-eligible enrollees limited to Designated Provider geographic service areas.

As a condition of enrollment, each dual-eligible beneficiary will be required to receive all of his or her health care services, except emergency care, through the Designated Provider program.

D. Impact of Demonstration Project on Enrollees and the Department of Defense.

The goal of the Designated Provider demonstration project is to allow retired beneficiaries and their dependents the opportunity to enroll throughout the program year. The evaluation will document the benefits of open enrollment opportunities to covered beneficiaries and the cost impact upon the Department of Defense, as well as a recommendation on whether to authorize open enrollments in the managed care plans of the Designated Providers permanently.

Dated: March 29, 2000.
L.M. Bynum,
Alternate OSD Federal Register Liaison Officer, Department of Defense.

[FR Doc. 00-8177 Filed 4-3-00; 8:45 am]

BILLING CODE 5001-10-M